NUCLEAR REGULATORY COMMISSION

Sunshine Notice

AGENCY: Nuclear Regulatory Commission.

Dates: Weeks of November 17, 24, December 1, 8, 15, 22, 2003.

Place: Commissioners' Conference Room, 11555 Rockville Pike, Rockville, Maryland.

Status: Public and Closed.

Matters to be Considered:

Week of November 17, 2003

Thursday, November 20, 2003

12:45 p.m.—Briefing on Threat Environment Assessment (Closed—Ex. 1)

Week of November 24, 2003—Tentative

There are no meetings scheduled for the Week of November 24, 2003.

Week of December 1, 2003—Tentative

There are no meetings scheduled for the Week of December 1, 2003.

Week of December 8, 2003—Tentative

Tuesday, December 9, 2003

1:30 p.m.—Briefing on Equal Employment Opportunity Program, (Public Meeting) (Contact: Corenthis Kelley, (301) 415-7380).

Wednesday, December 10, 2003

9:30 a.m.—Briefing on Strategic Workforce Planning and Human Capital Initiatives (Closed—Ex. 2)

Week of December 15, 2003—Tentative

There are no meetings scheduled for the Week of December 15, 2003.

Week of December 22, 2003—Tentative

There are no meetings scheduled for the Week of December 22, 2003.

The schedule for Commission meetings is subject to change on short notice. To verify the status of meetings call (recording)—(301) 415-1292. Contact person for more information: R. Michelle Schroll, (301) 415-1662.

SUPPLEMENTARY INFORMATION: By a vote of 3-0 on November 13, the Commission determined pursuant to U.S.C. 552b(e) and § 9.107(a) of the Commission's rules “Affirmation of (1) Final Rule Revising 10 CFR part 2—Rules of Practice; (2) Sequoyah Fuels Corp. (Gore, Oklahoma Site); Answer to Presiding Officer's Certified Question Regarding Classification of Waste as AEA § 11e(2) Byproduct Material; and (3) Private Fuel Storage (Independent Spent Fuel Storage Installation) Docket No. 72-22-ISFSI” be held on November 13, and on less than one week's notice to the public.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: November 13, 2003.
R. Michelle Schroll,
Information Management Specialist, Office of the Secretary.

[FR Doc. 03-28883 Filed 11-14-03; 11:53 am]

BILLING CODE 7590-01-M